DEPARTMENT OF THE INTERIOR

National Park Service

[NPS-WASO-NAGPRA-21098; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Office of the State Archaeologist Bioarchaeology Program. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Office of the State Archaeologist Bioarchaeology Program at the address in this notice by July 8, 2016.

ADDRESSES: Dr. Lara Noldner, Office of the State Archaeologist Bioarchaeology Program, University of Iowa, 700 South Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archaeologist Bioarchaeology Program, Iowa City, IA. The human remains were removed from an unspecified location in California.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Office of the State Archaeologist Bioarchaeology Program professional staff in consultation with the Native American Heritage Commission, representatives of the Tejon Indian Tribe; the Tule River Indian Tribe of the Tule River Reservation, California; and the Kern Valley Indian Community, a non-federally recognized Indian group.

History and Description of the Remains

At an unknown date, human remains representing a minimum of one individual were removed from an unspecified mound site in California. At some point, the human remains, which were identified as “taken from mound of Kawai tribe,” were donated to the Ham House Museum in Dubuque, IA. These human remains were transferred to the Office of the State Archaeologist Bioarchaeology Program in 1986. The human remains were identified as a young adult male (Burial Project 655). No known individuals were identified. No associated funerary objects are present.

The human remains are attributed to the Kawaiisu, based on collection evidence. The Kawai, also known as the Kawaiisu or Kaweah, occupied Eastern California in the vicinity of the Tehachapi Mountains. When the original Tule River Reservation was established in 1856, the Kawaiisu were among the tribes represented. Ethnohistorically, Kawaiisu is the name of a population that encompasses thre, now separate, present-day communities: The Tejon Indian Tribe, the Tule River Indian Tribe, and the Kern Valley Indian Community, a non-Federally recognized Indian group.

Determinations Made by the Office of the State Archaeologist Bioarchaeology Program

Officials of the Office of the State Archaeologist Bioarchaeology Program have determined that:

• Pursuant to 25 U.S.C. 3001(9), the human remains described in this notice represent the physical remains of one individual of Native American ancestry.

• Pursuant to 25 U.S.C. 3001(2), there is a relationship of shared group identity that can be reasonably traced between the Native American human remains and the Tule River Indian Tribe of the Tule River Reservation, California.

Additional Requestors and Disposition

Lineal descendants or representatives of any Indian tribe or Native Hawaiian organization not identified in this notice that wish to request transfer of control of these human remains should submit a written request with information in support of the request to Dr. Lara Noldner, Office of the State Archaeologist Bioarchaeology Program, University of Iowa, 700 South Clinton Street, Iowa City, IA 52242, telephone (319) 384-0740, email lara-noldner@uiowa.edu, by July 8, 2016. After that date, if no additional requestors have come forward, transfer of control of the human remains to the Tule River Indian Tribe of the Tule River Reservation, California, may proceed.

The Office of the State Archaeologist Bioarchaeology Program is responsible for notifying the Tejon Indian Tribe; the Tule River Indian Tribe of the Tule River Reservation, California; and the Kern Valley Indian Community, a non-federally recognized Indian group, that this notice has been published.

Dated: May 16, 2016.
Melanie O'Brien,
Manager, National NAGPRA Program.

[FR Doc. 2016-13592 Filed 6-7-16; 8:45 am]

BILLING CODE 4312-50-P